DEPARTMENT OF STATE

[Public Notice: 10929]

Designation and Determination Pursuant to the Foreign Missions Act

Pursuant to the authority vested in the Secretary of State under the Foreign Missions Act, 22 U.S.C. 4301, et seq. (“the Act”), and delegated pursuant to Department of State Delegation of Authority No. 214 of September 20, 1994, I hereby designate all official meetings planned with representatives of state, local, and municipal governments in the United States and its territories involving members of the People's Republic of China's foreign missions in the United States as a benefit under the Act and hereby determine it is reasonably necessary to achieve one or more of the purposes set forth in section 204(b) of the Act (22 U.S.C. 4304(b)) to require all Chinese members of the People's Republic of China's foreign missions in the United States, including its representatives temporarily working in the United States, and accompanying Chinese dependents and members of their households to submit prior notification to the Office of Foreign Missions of:

1. All official meetings with representatives of state, local, and municipal governments in the United States and its territories;

2. All official visits to educational institutions (public or private) in the United States and its territories; and

3. All official visits to research institutions (public or private), including national laboratories, in the United States and its territories.

This Designation and Determination will apply to all Chinese entities that are designated as “foreign missions” as defined in the Foreign Missions Act. The implementation of these requirements is subject to any additional terms and conditions approved by the Director or Deputy Director of the Office of Foreign Missions.

Stephen J. Akard,
Director, Office of Foreign Missions.

[FR Doc. 2019-22820 Filed 10-18-19; 8:45 am]

BILLING CODE 4710-43-P